FEDERAL COMMUNICATIONS COMMISSION

[Report No. 2751]

Petitions for Reconsideration of Action in Rulemaking Proceeding

January 23, 2006.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by February 16, 2006. See § 1.4(b)(1) of the Commission's rules (47 CFR 1.4(b)(1)). Replies to an opposition must be filed within 10 days after the time for filing oppositions have expired.

Subject: In the Matter of Amendment of Section 73.202(b), Table of Allotments, FM Broadcast Stations (Connersville, Madison, and Richmond, Indiana, Erlanger and Lebanon, Kentucky, and Norwood, Ohio; and Lebanon, Lebanon Junction, New Haven, and Springfield, Kentucky) (MB Docket No. 05-17).

Number of Petitions Filed: 1.

Subject: In the Matter of Amendment of Section 73.202(b), Table of Allotments, FM Broadcast Stations (Lake City, Chattanooga, Harrogate, and Halls Crossroads, Tennessee) (MB Docket No. 03-120).

Number of Petitions Filed: 1.

Marlene H. Dortch,
Secretary.

[FR Doc. 06-795 Filed 1-31-06; 8:45 am]

BILLING CODE 6712-01-P